NATIONAL FOUNDATION ON THE ARTS AND THE HUMANITIES

National Endowment for the Arts

Arts Advisory Panel Meetings

AGENCY: National Endowment for the Arts, National Foundation on the Arts and Humanities.

ACTION: Notice of meetings.

SUMMARY: Pursuant to the Federal Advisory Committee Act, as amended, notice is hereby given that 13 meetings of the Arts Advisory Panel to the National Council on the Arts will be held by teleconference unless otherwise noted.

DATES: All meetings are Eastern time and ending times are approximate:

Design (review of applications): This meeting will be closed.

Date and time: January 9, 2017—11:00 a.m. to 1:00 p.m.

Design (review of applications): This meeting will be closed.

Date and time: January 9, 2017—2:00 p.m. to 4:00 p.m.

Design (review of applications): This meeting will be closed.

Date and time: January 10, 2017—11:00 a.m. to 1:00 p.m.

Design (review of applications): This meeting will be closed.

Date and time: January 10, 2017—2:00 p.m. to 4:00 p.m.

State and Regional (review of state partnership agreements): This meeting will be by videoconference and will be open.

Date and time: January 10, 2017—3:00 p.m. to 5:00 p.m., January 11, 2017—3:00 p.m. to 5:00 p.m., and January 12, 2017—3:00 p.m. to 5:00 p.m.

Folk and Traditional Arts (review of nominations): This meeting will be closed.

Date and time: January 11, 2017—1:00 p.m. to 4:00 p.m., and January 13, 2017—1:00 p.m. to 4:00 p.m.

Design (review of applications): This meeting will be closed.

Date and time: January 17, 2017—11:00 a.m. to 1:00 p.m.

Design (review of applications): This meeting will be closed.

Date and time: January 17, 2017—2:00 p.m. to 4:00 p.m.

Design (review of applications): This meeting will be closed.

Date and time: January 18, 2017—11:00 a.m. to 1:00 p.m.

Research (review of applications): This meeting will be closed.

Date and time: January 25, 2017—2:30 p.m. to 5:00 p.m.

Research (review of applications): This meeting will be closed.

Date and time: January 26, 2017—2:30 p.m. to 5:00 p.m.

Folk and Traditional Arts (review of applications): This meeting will be closed.

Date and time: January 26, 2017—12:00 p.m. to 2:00 p.m.

Folk and Traditional Arts (review of applications): This meeting will be closed.

Date and time: January 26, 2017—3:00 p.m. to 5:00 p.m.

ADDRESSES: National Endowment for the Arts, Constitution Center, 400 7th St. SW., Washington, DC 20506.

FOR FURTHER INFORMATION CONTACT: Further information with reference to these meetings can be obtained from Ms. Kathy Plowitz-Worden, Office of Guidelines & Panel Operations, National Endowment for the Arts, Washington, DC, 20506—plowitzk@arts.gov, or call 202-682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of July 5, 2016, these sessions will be closed to the public pursuant to subsection (c)(6) of section 552b of title 5, United States Code.

Dated: December 6, 2016.
Kathy Plowitz-Worden,
Panel Coordinator, National Endowment for the Arts.

[FR Doc. 2016-29517 Filed 12-8-16; 8:45 am]

BILLING CODE 7537-01-P